DEPARTMENT OF HEALTH AND HUMAN SERVICES

Administration for Community Living

Agency Information Collection Activities; Submission for OMB Review; Public Comment Request; Inventory of Adult Protective Services Practices and Service Innovations

AGENCY: Administration for Community Living, HHS.

ACTION: Notice.

SUMMARY: The Administration for Community Living is announcing that the proposed collection of information listed above has been submitted to the Office of Management and Budget (OMB) for review and clearance as required under section 506(c)(2)(A) of the Paperwork Reduction Act of 1995. This 30-Day notice collects comments on the information collection requirements related to requirements related to a new information collection 0985-New Inventory of Adult Protective Services Practices and Service Innovations.

DATES: Submit written comments on the collection of information by March 29, 2021.

ADDRESSES: Submit written comments and recommendations for the proposed information collection within 30 days of publication of this notice to www.reginfo.gov/public/do/PRAMain. Find the information collection by selecting “Currently under 30-day Review—Open for Public Comments” or by using the search function. By mail to the Office of Information and Regulatory Affairs, OMB, New Executive Office Bldg., 725 17th St. NW, Rm. 10235, Washington, DC 20503, Attn: OMB Desk Officer for ACL.

FOR FURTHER INFORMATION CONTACT: Stephanie Whittier Eliason, Administration for Community Living, Washington, DC 20201 Phone: (202) 795-7467, Email: Stephanie.WhittierEliason@acl.hhs.gov.

SUPPLEMENTARY INFORMATION: In compliance with 44 U.S.C. 3507, ACL has submitted the following proposed collection of information to OMB for review and clearance. The Administration for Community Living (ACL) is requesting approval for a new information collection 0985-New Inventory of Adult Protective Services Practices and Service Innovations. The Elder Justice Act of 2009 requires the Secretary of the U.S. Department of Health and Human Services to carry out a number of activities related to adult protective services (APS) (42 U.S.C. 1397m-1), including developing and disseminating information on APS best practices and conducting research related to the provision of APS.

Furthermore, the Elder Justice Coordinating Council included as its third recommendation for increasing federal involvement in addressing elder abuse, neglect, and exploitation: “develop a national APS system based upon standardized data collection and a core set of service provision standards and best practices.”

Background

The Administration for Community Living (ACL) in the U.S. Department of Health and Human Services (HHS) plans to initiate an Inventory of Adult Protective Services Practices and Service Innovations (APS Practice Survey) in early 2021. Under a contract with ACL, the National Adult Protective Services Technical Assistance Resource Center (APS TARC) is conducting a national program evaluation of APS programs. As part of this evaluation, the APS Practice Survey will identify barriers to meeting policy mandates, and practice innovations and model programs that address such barriers and community-identified needs. It also seeks to identify practice variations in the way APS programs serve older adults and adults with disabilities. The results of the survey will serve to advance the field of APS and will be useful to many audiences. It will provide baseline information regarding the status of APS programs and services, and the resulting information will help states and territories compare their program characteristics with those of other states and territories. The survey will provide a context for other researchers examining APS programs. It will inform ACL's efforts to support improvement of APS programs through activities such as innovation grants. Finally, it will inform the APS TARC team's efforts to develop resources to enhance APS programs around the country. This survey has been developed to gather information on APS practices that is not available from other sources. As part of the National Adult Maltreatment Reporting System (NAMRS), ACL collects descriptive data on state and territory agency policies through the Agency Component of that data collection.

Therefore, the proposed survey will not collect any background policy or data items. As part of the APS Program Evaluation, the APS TARC also conducted a detailed examination of state APS policies through development of individual state policy profiles. The profiles were based exclusively on extant information sources obtained without additional data requests from the states. Information on practices gathered in this survey will complement, but will not duplicate, these policy profiles.

Finally, the National Adult Protective Services Association (NAPSA) conducted a survey of State APS programs in 2012, and the National Association of State Units on Aging and Disability (NASUAD) fielded a survey to its members, which are not APS programs, in January 2018 intended to update findings from the NAPSA 2012 survey. Since the survey replicates the original NAPSA survey, the questions in it are not focused on APS practice and are not directed at the same respondents as the proposed survey. As noted, a few topics in the original survey overlap with the proposed instrument, but the wording and focus of the few questions on similar topics are different. From this analysis, we conclude the proposed APS Practice Survey will yield vital information on APS practice not available from other sources.

Proposed Collection Efforts

The APS Practice Survey will collect state- and territory-specific practices for all aspects of APS casework practice, including staffing, intake, investigation, service planning and delivery, and quality assurance. Across these areas, the survey will collect information on practices such as community partnerships and use of assessment tools.

The APS Practice Survey will be administered online using SurveyMonkey or a similar commercial survey-programming tool. The online survey will include data validation routines to minimize errors or unintentional omissions and will include appropriate skip patterns to reduce burden. Respondents will be state and territory APS agencies, including APS agencies in the District of Columbia, Puerto Rico, Guam, Northern Marianas Islands, Virgin Islands, and American Samoa. No personally identifiable information will be collected.

A pilot version of The APS Practice Survey was tested in nine (9) diverse states between July and September 2017. Following their pretest of the survey instrument, pilot respondents participated in focus groups in which they provided recommendations on data collection procedures, views on the availability of data being requested, and estimates of the burden to each state and territory for completion of the survey. It is assumed that nearly every state and territory will participate and that time to develop a response will be similar to the experience of states during the pilot test. ACL has calculated the following burden estimates based on the results of the survey pilot test.

Comments in Response to the 60-Day Federal Register Notice

A notice published in the Federal Register on December 1, 2020 in 85 FR 77218.

Estimated Program Burden: ACL estimates the annual burden associated with this collection of information as follows:

Instrument | Number of respondents | Number of responses per respondent | Average burden hours per response | Total burden hours
APS Practice Survey | 56 | 1 | 3.50 | 196
Estimated Total Annual Burden Hours |  |  |  | 196

Dated: February 19, 2021.
Alison Barkoff,
Acting Administrator and Assistant Secretary for Aging.

[FR Doc. 2021-03863 Filed 2-24-21; 8:45 am]

BILLING CODE 4154-01-P